DEPARTMENT OF THE TREASURY

Internal Revenue Service

Proposed Collection; Comment Request for U.S. Employment Tax Returns and Related Forms; CT-1, CT-1X, CT-2, SS-8, SS-8 (PR), W-2, W-2 AS, W-2 C, W-2 GU, W-2 VI, W-3, W-3 (PR), W-3 C, W-3 C (PR), W-3 SS, 940, 940 (PR), 940 SCH A, 940 SCH A (PR), 940 SCH R, 941, 941 (PR), 941 SCH B, 941 SCH B (PR), 941 SCH D, 941 SCH R, 941 SS, 941 X, 941 X (PR), 943, 943 (PR), 943 A, 943 A (PR), 943 SCH R, 943 X, 943 X (PR), 944, 944 X, 945, 945 A, 945 X, 2032, 2678, 8027, 8027 T, 8453 EMP, 8850, 8879 EMP, 8922, 8952, and 8974

AGENCY: Internal Revenue Service (IRS), Treasury.

ACTION: Notice and request for comments.

SUMMARY: The Internal Revenue Service, as part of its continuing effort to reduce paperwork and respondent burden, invites the general public and other Federal agencies to take this opportunity to comment on proposed and/or continuing information collections, as required by the Paperwork Reduction Act of 1995 (PRA). The IRS is soliciting comments on U.S. Employment Tax Returns and related Forms.

DATES: Written comments should be received on or before October 28, 2024 to be assured of consideration.

ADDRESSES: Direct all written comments to Andres Garcia, Internal Revenue Service, Room 6526, 1111 Constitution Avenue NW, Washington, DC 20224, or by email pra.comments@irs.gov. Include 1545-0029 or U.S. Employment Tax Returns and Related Forms.

FOR FURTHER INFORMATION CONTACT: Requests for additional information or copies of the forms and instructions should be directed to Kerry Dennis, at (202) 317-5751, Internal Revenue Service, Room 6526, 1111 Constitution Avenue NW, Washington, DC 20224, or through the internet, at Kerry.Dennis@irs.gov.

SUPPLEMENTARY INFORMATION:

Tax Compliance Burden

Tax compliance burden is defined as the time and money taxpayers spend to comply with their tax filing responsibilities. Time-related activities include recordkeeping, tax planning, gathering tax materials, learning about the law and what you need to do, and completing and submitting the return. Out-of-pocket costs include expenses such as purchasing tax software, paying a third-party preparer, and printing and postage. Tax compliance burden does not include a taxpayer's tax liability, economic inefficiencies caused by sub-optimal choices related to tax deductions or credits, or psychological costs.

Proposed PRA Submission to OMB

Title: U.S. Employment Tax Returns and related Forms.

OMB Number: 1545-0029.

Form Numbers: CT-1, CT-1X, CT-2, SS-8, SS-8 (PR), W-2, W-2 AS, W-2 C, W-2 GU, W-2 VI, W-3, W-3 (PR), W-3 C, W-3 C (PR), W-3 SS, 940, 940 (PR), 940 SCH A, 940 SCH A (PR), 940 SCH R, 941, 941 (PR), 941 SCH B, 941 SCH B (PR), 941 SCH D, 941 SCH R, 941 SS, 941 X, 941 X (PR), 943, 943 (PR), 943 A, 943 A (PR), 943 SCH R, 943 X, 943 X (PR), 944, 944 X, 945, 945 A, 945 X, 2032, 2678, 8027, 8027 T, 8453 EMP, 8850, 8879 EMP, 8922, 8952, and 8974.

Abstract: These forms are used by employers to report their employment tax-related activity. The data is used to verify that the items reported on the forms are correct.

Current Actions: There have been changes in regulatory guidance related to various forms approved under this approval package during the past year. There have been additions and removals of forms included in this approval package. It is anticipated that these changes will have an impact on the overall burden and cost estimates requested for this approval package, however these estimates were not finalized at the time of release of this notice. These estimated figures are expected to be available by the release of the 30-day comment notice from OMB. This approval package is being submitted for renewal purposes.

Type of Review: Revision of currently approved collection.

Affected Public: Employers.

Preliminary Estimated Number of Respondents: 7,271,800.

Preliminary Estimated Time per Respondent (Hours): 63 hours, 48 minutes.

Preliminary Estimated Total Annual Time (Hours): 464,000,000.

Preliminary Estimated Total Annual Monetized Time ($): 14,850,000,000.

Preliminary Estimated Total Out-of-Pocket Costs ($): 19,210,000,000.

Preliminary Estimated Total Monetized Burden ($): 34,060,000,000.

Note: Total Monetized Burden = Total Out-of-Pocket Costs + Total Annual Monetized Time.

Note: Amounts below are estimates for fiscal year (FY) 2025. Reported time and cost burdens are national averages and do not necessarily reflect a “typical case.” Most taxpayers experience lower than average burden, with taxpayer burden varying considerably by taxpayer type. Detail may not add due to rounding.

ICB Estimates for Employment Tax Forms, Schedules, and Regulations
[FY2025]
| FY23 | Program change due to adjustment | FY25
Number of Respondents | 7,128,000 | 143,800 | 7,271,800
Burden in Hours | 456,000,000 | 8,000,000 | 464,000,000
Monetized Time Burden | $14,630,000,000 | $220,000,000 | $14,850,000,000
Out-of-Pocket Costs | $18,910,000,000 | $300,000,000 | $19,210,000,000
Total Monetized Burden | $33,540,000,000 | $520,000,000 | $34,060,000,000

Request for Comments

Comments submitted in response to this notice will be summarized and/or included in the request for OMB approval. All comments will become a matter of public record. Comments are invited on: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: August 23, 2024.
Kerry Dennis,
Tax Analyst.

Appendix A

Form | Title/description | OMB No.
CT-1 | Employer's Annual Railroad Retirement Tax Return | 1545-0001
CT-1X | Adjusted Employer's Annual Railroad Retirement Tax Return or Claim for Refund | 1545-0001
CT-2 | Employee Representative's Quarterly Railroad Tax Return | 1545-0002
SS-8 | Determination of Worker Status for Purposes of Federal Employment Taxes and Income Tax Withholding | 1545-0004
SS-8 (PR) | Determination of Employee Work Status for Purposes of Federal Employment Taxes and Income Tax (Puerto Rican Version) | 1545-0004
W-2 | Wage and Tax Statement | 1545-0008
W-2 AS | American Samoa Wage and Tax Statement | 1545-0008
W-2 C | Corrected Wage and Tax Statement | 1545-0008
W-2 GU | Guam Wage and Tax Statement | 1545-0008
W-2 VI | U.S. Virgin Islands Wage and Tax Statement | 1545-0008
W-3 | Transmittal of Wage and Tax Statements | 1545-0008
W-3 (PR) | Transmittal of Withholding Statements (Puerto Rican Version) | 1545-0008
W-3 C | Transmittal of Corrected Wage and Tax Statements | 1545-0008
W-3 C (PR) | Transmittal of Corrected Wage and Tax Statements (Puerto Rican Version) | 1545-0008
W-3 SS | Transmittal of Wage and Tax Statements | 1545-0008
940 | Employer's Annual Federal Unemployment (FUTA) Tax Return | 1545-0028
940 (PR) | Employer's Annual Federal Unemployment (FUTA) Tax Return (Puerto Rican Version) | 1545-0028
940 SCH A | Multi-State Employer and Credit Reduction Information | 1545-0028
940 SCH A (PR) | Multi-State Employer and Credit Reduction Information (Puerto Rican Version) | 1545-0028
940 SCH R | Allocation Schedule for Aggregate Form 940 Filers | 1545-0028
941 | Employer's Quarterly Federal Tax Return | * 1545-0029
941 (PR) | Employer's Quarterly Federal Tax Return | * 1545-0029
941 SCH B | Report of Tax Liability for Semiweekly Schedule Depositors | * 1545-0029
941 SCH B (PR) | Supplemental Record of Federal Tax Liability (Puerto Rican Version) | * 1545-0029
941 SCH D | Report of Discrepancies Caused by Acquisitions, Statutory Mergers, or Consolidations | * 1545-0029
941 SCH R | Reconciliation for Aggregate Form 941 Filers | * 1545-0029
941 SS | Employer's QUARTERLY Federal Tax Return (American Samoa, Guam, the Commonwealth of Northern Mariana Islands, and the U.S. Virgin Islands) | * 1545-0029
941 X | Adjusted Employer's QUARTERLY Federal Tax Return or Claim for Refund | * 1545-0029
941 X (PR) | Adjusted Employer's QUARTERLY Federal Tax Return or Claim for Refund (Puerto Rico Version) | * 1545-0029
943 | Employer's Annual Tax Return for Agricultural Employees | 1545-0035
943 (PR) | Employer's Annual Tax Return for Agricultural Employees (Puerto Rican Version) | 1545-0035
943 A | Agricultural Employer's Record of Federal Tax Liability | 1545-0035
943 A (PR) | Agricultural Employer's Record of Federal Tax Liability (Puerto Rican Version) | 1545-0035
943 R | Allocation Schedule for Aggregate Form 943 Filers | 1545-0035
943 X | Adjusted Employer's Annual Federal Tax Return for Agricultural Employees or Claim for Refund | 1545-0035
943 X (PR) | Adjusted Employer's Annual Federal Tax Return for Agricultural Employees or Claim for Refund | 1545-0035
944 | Employer's ANNUAL Federal Tax Return | 1545-2007
944 X | Adjusted Employer's ANNUAL Federal Tax Return or Claim for Refund | 1545-2007
945 | Annual Return of Withheld Federal Income Tax | 1545-1430
945 A | Annual Record of Federal Tax Liability | 1545-1430
945 X | Adjusted ANNUAL Return of Withheld Federal Income Tax or Claim for Refund | 1545-1430
2032 | Contract Coverage Under Title II of the Social Security Act | 1545-0137
2678 | Employer/Payer Appointment of Agent | 1545-0748
8027 | Employer's Annual Information Return of Tip Income and Allocated Tips | 1545-0714
8027 T | Transmittal of Employer's Annual Information Return of Tip Income and Allocated Tips | 1545-0714
8453 EMP | Employment Tax Declaration for an IRS e-file Return | 1545-0967
8850 | Pre-Screening Notice and Certification Request for the Work Opportunity Credit | 1545-1500
8879 EMP | IRS e-file Signature Authorization for Forms 940, 940-PR, 941, 941-PR, 941-SS, 943, 943-PR, 944, and 945 | 1545-0967
8922 | Third-Party Sick Pay Recap | * 1545-0123
8952 | Application for Voluntary Classification Settlement Program (VCSP) | 1545-2215
8974 | Qualified Small Business Payroll Tax Credit for Increasing Research Activities | 1545-0029
* 1545-0123 will not be discontinued. It is the Business collection and 8922 will be included in both the Business collection and the Employment Tax collection.
* 1545-0029 will not be discontinued it will be the number assigned to all Forms within the employment tax collection.

Appendix B

Guidance title/description | OMB No.
26 CFR 31.6001-1 Records in general; 26 CFR 31.6001-2 Additional Records under FICA; 26 CFR 31.6001-3, Additional records under Railroad Retirement Tax Act; 26 CFR 31.6001-5 Additional records | 1545-0798
Tip Reporting Alternative Commitment (TRAC) Agreement for Use in the Cosmetology and Barber Industry to Employment Tax | 1545-1529
Reg-111583-07 (TD 9405) (Final)—Employment Tax Adjustments; REG-130074-11—Rules Relating to Additional Medicare Tax | 1545-2097

[FR Doc. 2024-19400 Filed 8-28-24; 8:45 am]

BILLING CODE 4830-01-P